DEPARTMENT OF THE TREASURY

Alcohol and Tobacco Tax and Trade Bureau

27 CFR Part 9

[Notice No. 28]

RIN: 1513-AA79

Proposed Establishment of the High Valley Viticultural Area (2003R-361P)

AGENCY: Alcohol and Tobacco Tax and Trade Bureau, Treasury.

ACTION: Notice of proposed rulemaking.

SUMMARY: The Alcohol and Tobacco Tax and Trade Bureau proposes to establish the “High Valley” viticultural area in Lake County, California. Located above the eastern shore of Clear Lake near the town of Clearlake Oaks, the proposed 14,000-acre area is about 85 miles north of San Francisco, and is largely within the established Clear Lake and North Coast viticultural areas. We designate viticultural areas to allow vintners to better describe the origin of their wines and to allow consumers to better identify wines they may purchase. We invite comments on this proposed addition to our regulations.

DATES: We must receive written comments on or before March 25, 2005.

ADDRESSES: You may send comments to any of the following addresses:

• Chief, Regulations and Procedures Division, Alcohol and Tobacco Tax and Trade Bureau, Attn: Notice No. 28, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, Program Manager, Regulations and Procedures Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

High Valley Petition

TTB has received a petition from Kevin Robinson of Brassfield Estate Winery proposing a new viticultural area to be called “High Valley” in Lake County, California. Located about 85 miles north of San Francisco, the proposed 14,000-acre viticultural area, with approximately 1,000 acres planted to vines, sits above the eastern shore of Clear Lake, near the town of Clearlake Oaks.

The proposed High Valley viticultural area's boundary encompasses the largely enclosed, elongated bowl-shaped High Valley basin and the surrounding mountain ridges. The proposed area measures about 8.5 miles east-to-west and 3 miles north-to-south, with elevations between 1,600 and approximately 3,000 feet.

The proposed High Valley viticultural area is largely within the established Clear Lake viticultural area (27 CFR 9.99) in Lake County. The Clear Lake area is, in turn, entirely within the multi-county North Coast (27 CFR 9.30) viticultural area. To encompass the mountain ridges surrounding the High Valley, a small east-northeast portion of the proposed High Valley viticultural area extends beyond the Clear Lake and North Coast areas' common eastern boundaries.

Below, we summarize the evidence presented in the petition.

Name Evidence

The “High Valley,” “High Valley Road,” and “High Valley Ridge” names all appear on the Clearlake Oaks, California USGS Quadrangle map, and on the California State Automobile Association's “Mendocino and Sonoma Coast Region” February 1999 map. The 2002 “SBC Pacific Bell Directory” lists three local businesses that incorporate “High Valley” into their name. The petition states that the “High Valley” name is the popular and historic reference used to identify the region. The petition's reference section lists Tom Butler's 1960 manuscript, “High Valley Memories,” which is on file at the Lake County Historical Courthouse Museum.

Boundary Evidence

The proposed High Valley area's boundary line encompasses a 1,600-foot minimum elevation, according to the USGS maps, delineating the proposed area from adjacent lower areas. The following table includes information from the USGS maps, and provides a summary of geographical points found in the lower elevations surrounding the proposed viticultural area.

Geographical area | Direction from proposed High Valley boundary | Elevation in feet on USGS map
Clear Lake | West | 1,326
Long Valley | North | 1,200
North Fork of Cache Creek | East | 1,100
Clearlake Oaks Township | South | 1,400

The petition explains that the alpine ridges of High Valley create a mountainside grape-growing environment not found beyond the proposed boundaries. The majority of the proposed area's vineyards are planted primarily on these highland slopes, with the remainder on the western valley floor.

According to the petition, early viticultural efforts in the High Valley area ceased with Prohibition, and walnuts, prunes, green beans, and other crops became the area's popular agricultural commodities. The petition states that approximately 25 very old “centennial vines” (possibly zinfandel) still exist on the southeast ridge above the valley floor.

Distinguishing Features

Topography

The High Valley basin sits between 1,700 and 1,800 feet in elevation, as shown on USGS maps. To the north, the High Valley Ridge rises to over 3,000 feet in elevation, while the east, south, and west ridges surrounding the valley average between 2,200 and 2,400 feet in height. According to the USGS maps, the lowest elevation within the proposed boundaries lies at the 1,600-foot contour line, which forms part of the area's southern boundary.

The petition explains that the proposed High Valley viticultural area boundary trends east-west and includes the ridges surrounding the basin. According to the petition, this transverse valley orientation, rarely found in the California Coastal Range, contributes to some of the distinctive climatic features of the proposed area.

Climate

The petition provided weather station data from several locations within the proposed High Valley viticultural area, including vineyards on the area's southeastern and western mountain ridges, and on the eastern and western portions of the valley floor. Using this data, the petition states that the proposed High Valley area's climate is cooler than those in the surrounding viticultural areas of Lake County.

The Winkler degree-day heat summation method of climate classification, the petition notes, classifies High Valley as a Region 3 climate and occasionally a cooler Region 2, depending upon the year and a vineyard's location within the proposed area. Amber Knolls, a grape-growing region approximately 5 miles west of High Valley's proposed boundary, has consistently warmer growing season temperatures, and is frequently a Region 4 climate in the degree-day classification system, according to the Lake County weather data provided in the petition.

The petitioner explains that High Valley's cool growing climate results from the valley's east-west orientation, High Valley Ridge's topography, and the perpetual “wind machine” generated from the Clear Lake basin. The high east-west ridges above the valley trap the cooling afternoon breezes as they blow in from the Clear Lake basin. Also, the cooling mountain-valley winds from the high northern elevations of the Mendocino National Forest drift down the ridges to the valley floor. The High Valley area, according to the petition, is one of the coolest grape-growing regions in Lake County, with a frost season that frequently extends into June. The grape varietals planted in the proposed area reflect this cooler and shorter growing season.

The petition presents limited rainfall data for the years 2000 through May 2003 and documents a wide variation in annual precipitation in High Valley. This data shows that the proposed High Valley viticultural area received 18 inches of precipitation in both 2000 and 2001, 29 inches in 2002, and 35 inches from January through May 2003. The petition states that, in recent years, other Lake County grape-growing regions received more precipitation than the proposed High Valley viticultural area. For example, the petition notes the following average precipitation amounts: Red Hills, 24 to 40 inches; Kelseyville, 46 inches; and the Putah Creek basin, 47 inches.

Geology

Originally a small east-west trending fault basin with drainage to the east, volcanic activity altered High Valley's shape and created a series of high ridges along its eastern side, forming the valley's largely enclosed basin and redirecting the valley's drainage westward into Clear Lake. This volcanic activity also created Tule Lake, a small lake on the valley's central floor, as well as Round Mountain, once an active volcanic cinder cone rising 400 feet above the northern valley floor.

The petition notes that the dominant rock types in the proposed High Valley viticultural area are Jurassic sedimentary rocks of the Franciscan Complex, basalt flows, and Quaternary volcanic deposits. As explained in the petition, the Franciscan Complex forms the base material and most of the exposed rock in the southern ridges and western portions of High Valley, while the Quaternary volcanics overlay the basalts found throughout the valley's eastern half. Round Mountain is a prominent High Valley feature of the Quaternary volcanics, according to the petition.

Soils

The petition notes that the two primary soil types of High Valley are weathered volcanic residue and Franciscan Complex weathered sandstone, shale, or phyllitic rocks. The east side of the proposed area contains soils derived primarily from volcanics, while the west side contains soils from Jurassic to Cretaceous sedimentary and phyllitic source material.

The petition states that the four basic soil formations within the proposed viticultural area include (1) Franciscan Hills that form the southern and western boundaries, (2) the alluvial basin of High Valley, (3) the alluvial terrace along the southeast boundary, and (4) the volcanic ridges along the area's northeastern portion near Round Mountain.

Wolfcreek loam soil, a very deep well-drained clay to sandy loam with moderately slow permeability, covers most of the High Valley floor, according to the petition. The eastern half of the proposed High Valley viticultural area contains Konocti variants, Konocti, Hambright, Benridge, and Sodabay Series soils. The petition notes that the Maymen, Hopland, and Mayacama Series soils dominate the southeast region of the proposed High Valley area. The western hills and ridges contain primarily Millsholm, Bressa, Hopland, Estel, and Maymen Series soils.

According to the petition, while the High Valley soils are permeable in mild and moderately-warm to warm temperatures, Big Valley soils allow only moderately-warm to warm temperature permeation. The petition adds that the soils of High Valley's slopes and ridges permit excellent drainage, unlike Big Valley's less favorable soil drainage characteristics. Further, the vine-planted slopes of the proposed High Valley viticultural area incline about 30 percent, comparatively steeper than the 0 to 2 percent incline of Big Valley vineyards, according to the petition.

Water Resources

The petition asserts that the proposed High Valley area contains aquifers and natural springs to meet its irrigation needs. The limited capability of Schindler Creek to take runoff out of High Valley contributes to the valley's unusually high water table. The springs of the valley's western and eastern mountain slopes and canyons flow down to the valley floor, which also contains springs, as well as numerous ponds, according to the petition.

Overlapping Boundaries

The proposed High Valley viticultural area lies almost entirely within the Clear Lake viticultural area, which surrounds the large lake of that name in Lake County, California. In turn, the Clear Lake viticultural area is entirely within the larger, multi-county North Coast viticultural area. A portion of the proposed High Valley area lies outside of the two larger areas. The following table shows the overlapping relationships by acreage and percentage.

Viticultural area name | Acreage of area within High Valley area | Percentage of High Valley area in this area (percent)
North Coast | 11,651 | 81.6
Clear Lake | 11,520 | 80.7
Outside any viticultural area | 2,622 | 18.4

The North Coast and Clear Lake viticultural areas share a portion of their east boundary line, which runs diagonally northwest to southeast through the eastern portion of the proposed High Valley viticultural area. This common boundary line extends straight northwest from the northwest corner of section 1, T13N, R7W, on the Benmore Canyon map, which is outside the proposed High Valley southeastern boundary line, to Round Mountain in section 21, T14N, R7W, on the Clearlake Oaks map. At the peak of Round Mountain, this shared boundary line divides. The North Coast viticultural area boundary line runs straight north-northwest, while the Clear Lake viticultural area extends straight northwest. TTB has determined that the difference in overlapping acreage between the two viticultural areas, above Round Mountain, is less than 1 percent when overlaid with the proposed High Valley viticultural area boundary lines.

To the east of the established North Coast and Clear Lake viticultural areas' common boundary line, the proposed High Valley viticultural area's east and northeast sections extend beyond any established viticultural area. This 2,622-acre, predominantly mountainous region includes the eastern ridges that surround High Valley, according to the USGS maps. The east side of Round Mountain and a small portion of the valley floor also lie outside the North Coast and Clear Lake viticultural areas.

This High Valley eastern area, beyond the North Coast and Clear Lake boundary line overlap, possesses distinguishing geographical features similar to the High Valley's western region, according to the petition. The petition states that the portion of the proposed area outside the established Clear Lake and North Coast viticultural areas contains the mountainous terrain and high ridges that make High Valley an enclosed basin with distinct watershed boundaries. The valley floor to the east of Round Mountain is the natural extension of the valley, with similar elevations and topography, as noted on the USGS maps. Soils derived primarily from basalts occur throughout the proposed area from Schindler's Creek east to the boundary line.

Boundary Description

See the narrative boundary description of the petitioned-for viticultural area in the proposed regulatory text published at the end of this notice.

Maps

The petitioner(s) provided the required maps, and we list them below in the proposed regulatory text.

Impact on Current Wine Labels

Part 4 of the TTB regulations prohibits any label reference on a wine that indicates or implies an origin other than the wine's true place of origin. If we establish this proposed viticultural area, its name, “High Valley,” will be recognized as a name of viticultural significance. Consequently, wine bottlers using “High Valley” in a brand name, including a trademark, or in another label reference as to the origin of the wine, will have to ensure that the product is eligible to use the viticultural area's name as an appellation of origin. The proposed part 9 regulatory text set forth in this document specifies the “High Valley” name as a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “High Valley” for a wine that does not meet the 85 percent standard, the new label will not be approved, and the previously approved label will be subject to revocation, upon the effective date of the approval of the High Valley viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climactic, and other required information submitted in support of the petition. Please provide any available specific information in support of your comments.

Because of the potential impact of the establishment of the proposed High Valley viticultural area on brand labels that include the words “High Valley” as discussed above under Impact on Current Wine Labels, we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments. You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or telephone 202-927-2400 to schedule an appointment or to request copies of comments.

For your convenience, we will post this notice and any comments we receive on this proposal on the TTB Web site. We may omit voluminous attachments or material that we consider unsuitable for posting. In all cases, the full comment will be available in the TTB Library. To access the online copy of this notice, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

2. Amend subpart C by adding § 9.___ to read as follows:

Subpart C—Approved American Viticultural Areas

§ 9.___ High Valley.

(a) Name. The name of the viticultural area described in this section is “High Valley”. For purposes of part 4 of this chapter, “High Valley” is a term of viticultural significance.

(b) Approved Maps. The appropriate maps for determining the boundaries of the High Valley viticultural area are three United States Geological Survey (USGS) 1:24,000 scale topographic maps. They are titled:

(1) Clearlake Oaks Quadrangle, California—Lake County; edition of 1958; photorevised 1975, minor revision 1994;

(2) Benmore Canyon Quadrangle, California—Lake County; provisional edition of 1989, minor revision 1994; and

(3) Lucerne Quadrangle, California—Lake County; edition of 1958, photorevised 1975, minor revision 1994.

(c) Boundary. The High Valley viticultural area is located in Lake County, California, near the village of Clearlake Oaks. The boundary of the High Valley viticultural area is as described below:

(1) The point of beginning is on the Clearlake Oaks map on the northern boundary line of section 16 (also the southern boundary of the Mendocino National Forest), T14N, R8W, at the intersection of High Valley Road and the 3,200-foot elevation line;

(2) From the beginning point, proceed 2.4 miles due east along the northern boundary lines of sections 16, 15, and 14 (also the southern boundary of the Mendocino National Forest) to the northeast corner of section 14, T14N, R8W; then

(3) Proceed 3.15 miles straight east-southeast to the intersection of the 2,000-foot elevation line and the eastern boundary of section 17, T14N, R7W; then

(4) Proceed easterly 2.7 miles along the 2,000-foot elevation line to its first intersection with the eastern boundary of section 22, T14N, R7W, on the Benmore Canyon map; then

(5) Proceed approximately 300 feet due south along the eastern boundary of section 22, T14N, R7W, to its intersection with the headwaters of the north branch of the Salt Canyon Creek; then

(6) Proceed easterly 0.4 mile along the north branch of the Salt Canyon Creek to its intersection with the 1,600-foot elevation line in section 23, T14N, R7W; then

(7) Proceed southerly along the 1,600-foot elevation line 4.1 miles to its intersection with State Route 20, just north of Sweet Hollow Creek, in section 35, T14N, R7W; then

(8) Proceed 1.7 miles generally southwest and then westerly to State Route 20's intersection with the 1,600-foot elevation line just northwest of BM 1634, Wye, in section 3, T13N, R7W; then

(9) Proceed 15.2 miles generally northwest along the 1,600-foot elevation line, crossing the Clearlake Oaks map, to the elevation line's intersection with an unnamed intermittent stream in Pierce Canyon in the northeast quadrant of section 20, approximately 0.4 mile east of VABM 2533, T14N, R8W, on the Lucerne map; then

(10) Proceed northerly and then northeasterly along the unnamed intermittent stream in Pierce Canyon and then the stream's northern fork approximately 1.6 miles to the northern fork's intersection with the 3,000-foot elevation line in section 16, T14N, R8W, on the Clearlake Oaks map; and then

(11) Proceed 0.15 mile straight northeast, returning to the beginning point.

Signed: January 10, 2005.
John J. Manfreda,
Administrator.

[FR Doc. 05-1191 Filed 1-21-05; 8:45 am]

BILLING CODE 4810-31-P